DEPARTMENT OF ENERGY

Federal Energy Regulatory Commission

[Docket No. ES01-3-000]

MDU Resources Group, Inc.; Notice of Application

October 10, 2000.

Take notice that on October 4, 2000, MDU Resources Group, Inc. (MDU Resources) submitted an application pursuant to section 204 of the Federal Power Act seeking authorization to issue a combination of securities not to exceed in the aggregate $750,000,000 and not to exceed the following amounts:

(1) $750,000,000 of common stock;

(2) $112,500,000 of preferred stock;

(3) $225,000,000 of New Mortgage Bonds, Senior Notes, debentures, subordinated debentures, and/or guarantees from time to time;

(4) $225,000,000 of stock purchase contracts, stock purchase units, and/or warrants; and

(5) $225,000,000 of other securities, including hybrid securities or hybrid securities guaranties.

MDU Resources seeks authorization to vary the issuance amount for each of the above types of securities as long as the aggregate amount of MDU Resources' securities issued does not exceed $750,000,000. The securities are proposed to be issued from time to time over a two-year period.

MDU Resources seeks a waiver of the Commission's competitive bidding and negotiated placement requirements in 18 CFR 34.2.

MDU Resources also requests for this authorization to supercede and replace the authorizing granted in Docket Nos. ES99-18-000 and ES99-18-001.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before October 31, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-26556 Filed 10-16-00; 8:45 am]

BILLING CODE 6717-01-M